DEPARTMENT OF DEFENSE

Office of the Secretary

Department of Defense Board of Actuaries; Notice of Federal Advisory Committee Meeting

AGENCY: Under Secretary of Defense for Personnel and Readiness, Department of Defense (DoD).

ACTION: Notice of Federal advisory committee meeting.

SUMMARY: The DoD is publishing this notice to announce that the following Federal Advisory Committee meeting of the DoD Board of Actuaries will take place.

DATES: Open to the public Wednesday, July 24, 2024, from 10:00 a.m. to 1:00 p.m. Eastern Standard Time (EST).

ADDRESSES: * * * THIS MEETING WILL BE HELD VIRTUALLY * * * If you need any assistance, please contact Inger Pettygrove at (703) 225-8803 or Inger.m.pettygrove.civ@mail.mil as soon as possible.

FOR FURTHER INFORMATION CONTACT: Inger Pettygrove, (703) 225-8803 (Voice), inger.m.pettygrove.civ@mail.mil (Email). Mailing address is Defense Human Resources Activity, DoD Office of the Actuary, 4800 Mark Center Drive, STE 03E25, Alexandria, VA 22350-8000. Website: https://actuary.defense.gov/. The most up-to-date changes to the meeting agenda can be found on the website.

SUPPLEMENTARY INFORMATION: This meeting is being held under the provisions of chapter 10 of title 5 United States Code (U.S.C.) (commonly known as the Federal Advisory Committee Act of 1972 (5 U.S.C. app.) or “FACA”), the Government in the Sunshine Act of 1976 (5 U.S.C. 552b, as amended), and 41 Code of Federal Regulations (CFR) 102-3.140 and 102-3.150.

Purpose of the Meeting: The purpose of the meeting is for the DoD Board of Actuaries to review DoD actuarial methods and assumptions to be used in the valuations of the Military Retirement Fund, the Voluntary Separation Incentive Fund, and the Education Benefits Fund in accordance with the provisions of section 183, section 2006, chapter 74 (10 U.S.C. 1464 et seq.), and section 1175 of title 10, U.S.C.

Agenda

Military Retirement Fund/VSI Fund (10:00 a.m.)

1. Recent and Proposed Legislation

2. Briefing on Investment Experience

3. September 30, 2023, Valuation of the Military Retirement Fund *

4. Proposed Methods and Assumptions for September 30, 2024, Valuation of the Military Retirement Fund *

5. Proposed Methods and Assumptions for September 30, 2023, VSI Fund Valuation *

Education Benefits Fund (11:00 a.m.)

6. Fund Overview

7. Briefing on Investment Experience

8. September 30, 2023, Valuation Proposed Economic Assumptions *

9. September 30, 2023, Valuation Proposed Methods and Assumptions—Reserve Programs *

10. September 30, 2023, Valuation Proposed Methods and Assumptions—Active-Duty Programs *

11. Developments in Education Benefits

* Board approval required

Meeting Accessibility: Pursuant to 5 U.S.C. 552b and 41 CFR 102-3.140 through 102-3.165, this meeting is open to the public. All members of the public who wish to attend virtually must register by contacting Inger Pettygrove, (703) 225-8803 (Voice), inger.m.pettygrove.civ@mail.mil (Email) no later than Monday, July 22, 2024. Once registered, the web address and/or audio number will be provided.

Written Statements: Pursuant to 41 CFR 102-3.140 and 10(a)(3) of the FACA, the public or interested organizations may submit written comments to the DoD Board of Actuaries about its mission and topics pertaining to this public session. Persons desiring to attend the DoD Board of Actuaries meeting to make an oral presentation or submit a written statement for consideration at the meeting must notify Inger Pettygrove at (703) 225-8803, or inger.m.pettygrove.civ@mail.mil, by Wednesday, July 10, 2024.

Written comments need to be submitted in the following formats: Adobe Acrobat or Microsoft Word. Written comments may also be mailed to the address listed in FOR FURTHER INFORMATION CONTACT. Written comments not received by the DoD Board of Actuaries at least five (5) business days prior to the meeting date, or after, will be provided to the Chair of the DoD Board of Actuaries for consideration.

Advance copy of oral public comments must be sent via email at inger.m.pettygrove.civ@mail.mil with the subject line “DoD Board of Actuaries: Request to Speak <insert the issue and question>” no later than 11:59 p.m. EST on Wednesday, July 10, 2024. Submissions received after the deadline will not be considered for oral public comment but will be provided to the Chair of the DoD Board of Actuaries for consideration. All submitted oral comments become government property and may be published as part of the meeting record. Registration for oral public comment is on a first-come, first-served basis. Comments are limited to two (2) minutes or less per person. After the maximum number of speakers is exceeded, individuals registered to provide oral comment will be placed on a wait list and notified should an opening become available. Should time expire for oral public comments those not presented will be provided to the Chair of the DoD Board of Actuaries for consideration. You will be notified via email no later than Monday, July 22, 2024, if you have been identified to provide in-person public comment.

Please note that since the DoD Board of Actuaries operates under the provisions of the FACA, all written comments received will be treated as public documents and will be made available for public inspection.

Dated: June 27, 2024.
Aaron T. Siegel,
Alternate OSD Federal Register Liaison Officer, Department of Defense.

[FR Doc. 2024-14553 Filed 7-1-24; 8:45 am]

BILLING CODE 6001-FR-P